DEPARTMENT OF ENERGY

Federal Energy Regulatory Commission

[Docket No. CP06-94-000]

Southern Star Central Gas Pipeline, Inc.; Notice of Intent to Prepare an Environmental Assessment for the Proposed Ozark Trails Expansion Project and Request for Comments on Environmental Issues

April 6, 2006.

The staff of the Federal Energy Regulatory Commission (FERC or Commission) will prepare an environmental assessment (EA) that will discuss the environmental impacts of the Ozark Trails Expansion Project involving construction and operation of facilities by Southern Star Central Gas Pipeline, Inc. (Southern Star) in (Labette and Montgomery counties, Kansas and Christian, Greene, Jasper, and Newton counties, Missouri).¹ The project would include about 2 miles of various diameter pipelines, uprating 13.5 mile of pipeline from a maximum allowable operating pressure (MAOP) of 720 pounds per square inch gauge (psig) to 877 psig, and modifications at two existing compressor stations. No additional horsepower of compression is proposed. This EA will be used by the Commission in its decision-making process to determine whether the project is in the public convenience and necessity.

¹ Southern Star's application was filed with the Commission under section 7 of the Natural Gas Act and part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Southern Star provided to landowners. This fact sheet addresses a number of typically asked questions, including the use of eminent domain and how to participate in the Commission's proceedings. It is available for viewing on the FERC Internet Web site (http://www.ferc.gov).

Summary of the Proposed Project

Southern Star proposes to construct and operate various facilities, including pipeline installation, extensions, replacements, and modifications at the Grabham and Saginaw Compressor Stations, in order to provide 19,562 decatherm per day (Dthd) and 5,000 Dthd of incremental firm transportation to Missouri Gas Energy (MGE), a Division of Southern Union, and Southern Missouri Gas Company, L.P., respectively. The proposed facilities are located in Labette and Montgomery Counties, Kansas and Christian, Greene, Jasper, and Newton Counties, Missouri. The pipeline and ancillary facilities would include:

• Springfield 20-Inch Loop Extension (Line HS). Extension of Springfield 20-inch pipeline loop (Line HS) by constructing about 0.9 mile of new 20-inch outside diameter (O.D.) loop from milepost (MP) 52.0 to MP 52.9 in Christian County, Missouri.

• Springfield 16-Inch Extension (Line HQ). Extension of Springfield 16-inch pipeline (Line HQ) by about 1.1 miles from at MP 41.35 to MP 42.43 located within the City of Springfield and Greene County, Missouri. The proposed 16-inch extension will be constructed in replacement of about a 1.0 mile segment of Line HQ-8.

Construction of above-ground auxiliary facilities at the eastern terminus of the proposed 16-inch extension line (MP 42.4), which would include a pressure regulator, 16-inch pig receiver, slug catcher, filter separator and a liquid collection tank. Relocate pig receiver from existing regulator site (MP 41.4) to new site.

• MGE Delivery Meter Facility. New delivery meter facility to be constructed at about MP 3.7 on Southern Star's Tartan 10-inch (HQ-32) pipeline for delivery to MGE; side valve, 6-inch ultrasonic meter, 6-inch flow control valve, and 350-feet of 10-inch interconnecting pipeline lateral.

• Southern 20-inch Loop Facilities. Southern Trunk 20-inch Loop Uprate:

Uprate Southern Trunk 20-inch loop line (Line FR between Southern Star's Grabham compressor station in Montgomery County, Kansas and the Empire “State Line” Power Plant in Jasper County, Missouri) between MP 0.0 to MP 13.5 to a MAOP from 720 psig to 877 psig.

Uprate activity would involve replacing various valves and crossovers on the FR Line, replacing pig launchers and receivers, installing a high pressure discharge line, replacing one road crossing, and making other modifications to the Grabham Compressor Station, as detailed below.

Southern Star's proposed modifications on the FR 20-inch pipeline are as follows:

• Compton Corner Town Border Station. Replacement of existing 4-inch flanged valve on 20-inch FR line with a new 4-inch riser and 4-inch ANSI 600# valve at MP 1.1 of FR line, east of CR 3700, Montgomery County, Kansas.

Replacement of 80-feet segment of 20-inch FR line with 20-inch pipe to meet design specifications for higher MAOP.

• Verdad Crossover. Replacement of existing 20-inch by 16-inch reducing tee with bars with a new 20-inch by 16-inch reducing tees with bars and a 16-inch weld end ANSI 600# ball valve to meet specifications for increased MAOP, at crossover at MP 4.0 of Southern Star's 20-inch FR line and 20-inch F line, Montgomery County, Kansas.Liberty Town Border StationReplacement of 2-inch riser and installation of a new 2-inch flanged ANSI 600# ball valve to meet design specifications for the increased MAOP, at MP 8.07, Montgomery County, Kansas.

• Brown Road Crossover. Replacement of existing 20-inch by 16-inch reducing tee with bars with a new 20-inch by 16-inch reducing tee with bars and a 16-inch weld end ANSI 600# ball valve, at MP 13.5 crossover between Southern Star's 20-inch FR line and 20-inch FR line, Labette County, Kansas.

Southern Trunk 20-inch Loop (FR Line) Receiver and Regulator Station. Replacement of existing receiver on the Southern Star's FR 20-inch loop line with a receiver designed to meet the increased MAOP, at the end of the Southern Trunk 20-inch Loop line, Jasper County, Missouri.

Back Pressure Regulator Station at Empire Power Plant. Installation of a new back pressure regulator station at MP 2.45 on Southern Star's existing 16-inch FP-1 line, Jasper County, Missouri.

• Compressor Station Modifications

Saginaw Compressor Station Modifications. Installation of auxiliary facilities at Southern Star's Saginaw Compressor Station in Newton County, Missouri includes the following:

• New gas cooler between the two existing gas coolers and about 40 feet of 12-inch (O.D.) above-grade piping and a valve to connect the cooler;

• Modifications to the existing gas compressor cylinders on the GMVH-10 reciprocating unit;

• Modifications to existing discharge piping to separate the two reciprocating units from a common gas aftercooler;

• Modifications to station yard piping required to increase the discharge operating pressure from 900 psig to 960 psig on the Springfield 20-inch line; and installation of about 40 feet of 12-inch (O.D.) above-ground piping and replacement of 20 feet of below-ground 12-inch pipe with 16-inch pipe; and

• Installation of a new regulator on the Jane 20-inch line within the Saginaw station yard.

• Removal of miscellaneous pipeline to be sold for scrap steel and salvaged by the contractor.

Grabham Compressor Station Modifications. Installation of auxiliary facilities at Southern Star's Grabham Compressor Station in Montgomery County, Kansas includes the following:

• Replacement of pulsation dampeners on compressor units 11 and 12;

• Installation of a new gas cooler and modifications of associated yard piping;

• Installation of a new 20-inch discharge header and modifications of associated yard piping to service Line FR 20-inch (about 1,400 feet of 20-inch line and 150 feet of 16-inch line);

• Replacement of 20-inch pig launcher on Line FR 20-inch; and

• Installation of a regulation and an orifice meter.

Southern Star indicates that MGE plans to construct a 3-mile pipeline to interconnect with Southern Star's proposed MGE measurement facility.

The location of the project facilities is shown in Appendix 1.²

² The appendices referenced in this notice are not being printed in the Federal Register. Copies of all appendices, other than Appendix 1 (map), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

Construction of the proposed facilities would require about 26.9 acres of land. Following construction, about 6.5 acres would be required for operation and maintenance.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Geology and soils.

• Land use.

• Cultural resources.

• Vegetation and wildlife.

• Endangered and threatened species.

• Air quality and noise.

• Hazardous waste.

• Public safety.

We will not discuss impacts to the following resource areas since they are not present in the project area, or would not be affected by the proposed facilities.

• Public or special use lands within 0.25 mile.

We will also evaluate possible alternatives to the proposed project or portions of the project, and make recommendations on how to lessen or avoid impacts on the various resource areas.

Our independent analysis of the issues will be in the EA. Depending on the comments received during the scoping process, the EA may be published and mailed to Federal, State, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have identified the potential issue regarding construction near residences that we think deserve attention based on a preliminary review of the proposed facilities and the environmental information provided by Southern Star. The preliminary issue may be changed based on your comments and our analysis.

Also, we have made a preliminary decision to not address the impacts of the nonjurisdictional facilities. We will briefly describe their location and status in the EA.

Public Participation

You can make a difference by providing us with your specific comments or concerns about the project. By becoming a commentor, your concerns will be addressed in the EA/EIS and considered by the Commission. You should focus on the potential environmental effects of the proposal, alternatives to the proposal, and measures to avoid or lessen environmental impact. The more specific your comments, the more useful they will be. Please carefully follow these instructions to ensure that your comments are received in time and properly recorded:

• Send an original and two copies of your letter to:

Magalie R. Salas, Secretary, Federal Energy Regulatory Commission, 888 First St., NE., Room 1A, Washington, DC 20426.

• Label one copy of the comments for the attention of Gas Branch 2.

• Reference Docket No. CP06-94-000.

• Mail your comments so that they will be received in Washington, DC on or before May 8, 2006.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created online.

We may mail the EA for comment. If you are interested in receiving it, please return the Information Request (Appendix 2). If you do not return the Information Request, you will be taken off the mailing list.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E6-5440 Filed 4-12-06; 8:45 am]

BILLING CODE 6717-01-P